DEPARTMENT OF HOMELAND SECURITY

Federal Emergency Management Agency

44 CFR Part 67

[Docket No. FEMA-P-7695]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | ◆Elevation in feet (NAVD): Existing | ◆Elevation in feet (NAVD): Modified | Communities affected
Little Wahoo Creek:
Approximately 130 feet upstream of the confluence with Wahoo Creek | ◆799 | ◆800 | Coweta County (Unincorporated Areas).
Approximately 1,100 feet upstream of the confluence with Wahoo Creek | ◆799 | ◆800
Snake Creek:
Approximately 170 feet upstream of the confluence with Wahoo Creek | ◆795 | ◆796 | Coweta County (Unincorporated Areas).
Approximately 4,200 feet upstream of the confluence with Wahoo Creek | ◆800 | ◆801
Tributary 1 to Simmon Creek:
At confluence with Simmon Creek | ◆867 | ◆866 | Coweta County (Unincorporated Areas).
Approximately 120 feet upstream of the confluence with Simmon Creek | ◆867 | ◆866
Tributary 1 to Snake Creek:
At the confluence with Snake Creek | ◆874 | ◆873 | City of Newnan.
Approximately 40 feet upstream of the confluence with Snake Creek | ◆874 | ◆873
Tributary 2 to Mineral Spring Branch:
At the confluence with Mineral Spring Branch | ◆831 | ◆830 | Coweta County (Unincorporated Areas).
Approximately 780 feet upstream of Fourth Street | ◆831 | ◆830
Tributary 2 to Sandy Creek:
At confluence with Tributary 3 to Sandy Creek | ◆792 | ◆793 | Coweta County (Unincorporated Areas).
Approximately 30 feet upstream of the confluence with Tributary 3 to Sandy Creek | ◆792 | ◆793
Tributary 2 to Shoal Creek:
Approximately 500 feet upstream of the confluence with Shoal Creek | ◆838 | ◆839 | Coweta County (Unincorporated Areas).
Approximately 1,720 feet upstream of the confluence with Shoal Creek | ◆838 | ◆839
Tributary 3 to Shoal Creek:
Approximately 140 feet upstream of the confluence with Shoal Creek | ◆853 | ◆854 | Coweta County (Unincorporated Areas).
Approximately 500 feet upstream of the confluence with Shoal Creek | ◆853 | ◆854
Tributary 3 to Wahoo Creek:
Approximately 110 feet upstream of the confluence with Tributary 2 to Wahoo Creek | ◆867 | ◆868 | City of Newnan.
Just downstream of Bullsboro Drive/State Highway 34 | ◆868 | ◆869
Tributary 4 to Wahoo Creek:
Approximately 100 feet upstream of the confluence with Tributary 3 to Wahoo Creek | ◆872 | ◆873 | City of Newnan.
Approximately 650 feet upstream of the confluence with Tributary 3 to Wahoo Creek | ◆872 | ◆873
Tributary 6 to Wahoo Creek:
At confluence with Tributary 2 to Wahoo Creek | ◆880 | ◆881 | City of Newnan.
Approximately 160 feet upstream of the confluence with Tributary 2 to Wahoo Creek | ◆880 | ◆881
Tributary 9 to Wahoo Creek:
At confluence with Wahoo Creek | ◆874 | ◆875 | City of Newnan.
Approximately 600 feet upstream of the confluence with Wahoo Creek | ◆874 | ◆875
Tributary 10 to Wahoo Creek:
Approximately 220 feet upstream of the confluence with Wahoo Creek | ◆881 | ◆882 | City of Newnan.
Approximately 420 feet upstream of the confluence with Wahoo Creek | ◆881 | ◆882
Tributary 12 to Wahoo Creek:
At the confluence with Wahoo Creek | ◆893 | ◆891 | City of Newnan.
Approximately 270 feet upstream of the confluence with Wahoo Creek | ◆895 | ◆896
ADDRESSES:
Unincorporated Areas of Coweta County, Georgia
Maps are available for inspection at the Community Map Repository, 22 East Broad Street, Newnan, Georgia.
Send comments to The Honorable Larry DeMoss, Chairman, Coweta County Commissioners, 22 East Broad Street, Newnan, Georgia 30263.
City of Newnan, Coweta County, Georgia
Maps are available for inspection at the Community Map Repository, 25 LaGrange Street, Newnan, Georgia.
Send comments to The Honorable L. Keith Brady, Mayor, City of Newnan, 25 La Grange Street, Newnan, Georgia 30263.

(Catalog of Federal Domestic Assistance No. 83.100, “Flood Insurance.”)

Dated: July 7, 2005.
David I. Maurstad,
Acting Director, Mitigation Division, Emergency Preparedness and Response Directorate.

[FR Doc. 05-13927 Filed 7-14-05; 8:45 am]

BILLING CODE 9110-12-P